ENVIRONMENTAL PROTECTION AGENCY

40 CFR Part 52

[EPA-R06-OAR-2005-TX-0013; FRL-9290-1]

Approval and Promulgation of Implementation Plans; Texas; System Cap Trading Program

AGENCY: Environmental Protection Agency (EPA).

ACTION: Withdrawal of proposed rule.

SUMMARY: On November 18, 2010 (75 FR 70654), EPA published a proposed rule to disapprove severable portions of two revisions to the Texas State Implementation Plan (SIP) submitted by the State of Texas on May 1, 2001, and August 16, 2007, that create and amend the System Cap Trading (SCT) Program at Title 30 Texas Administrative Code, Chapter 101—General Air Quality, Subchapter H—Emissions Banking and Trading, Division 5, sections 101.380, 101.382, 101.383, and 101.385. We proposed disapproval because the SCT Program lacks several necessary components for emissions trading programs as outlined in EPA's Economic Incentive Program Guidance. Subsequent to our proposed disapproval, EPA received a letter dated March 4, 2011, from the Texas Commission on Environmental Quality (TCEQ) stating that the May 1, 2001, and August 16, 2007, SCT Program SIP submissions have been withdrawn from our consideration as revisions to the Texas SIP. Therefore, EPA is withdrawing our proposed disapproval and finds that no further action is necessary on the SCT Program. The State's action also withdraws from EPA's review the SCT Program component of the January 22, 2010 Consent Decree between EPA and the BCCA Appeal Group, Texas Association of Business, and Texas Oil and Gas Association. This withdrawal is being taken under section 110 and parts C and D of the Federal Clean Air Act.

DATES: The proposed rule published on November 18, 2010 (75 FR 70654), is withdrawn as of April 8, 2011.

FOR FURTHER INFORMATION CONTACT: Ms. Adina Wiley (6PD-R), Air Permits Section, Environmental Protection Agency, Region 6, 1445 Ross Avenue (6PD-R), Suite 1200, Dallas, TX 75202-2733. The telephone number is (214) 665-2115. Ms. Wiley can also be reached via electronic mail at wiley.adina@epa.gov.

List of Subjects in 40 CFR Part 52

Environmental protection, Air pollution control, Incorporation by reference, Intergovernmental relations, Nitrogen dioxide, Ozone, Reporting and recordkeeping requirements.

Dated: March 25, 2011.
Al Armendariz,
Regional Administrator, EPA Region 6.

[FR Doc. 2011-8427 Filed 4-7-11; 8:45 am]

BILLING CODE 6560-50-P